DEPARTMENT OF HEALTH AND HUMAN SERVICES

Announcement of the President's Advisory Commission on Asian Americans, Native Hawaiians, and Pacific Islanders Meeting and Solicitation for Oral and Written Comments Regarding Activities To Support the Advancement of Equity, Justice, and Opportunity for Asian American, Native Hawaiian, and Pacific Islander Communities.

AGENCY: Department of Health and Human Services, Office of the Secretary, Office of Intergovernmental and External Affairs, White House Initiative on Asian Americans, Native Hawaiians, and Pacific Islanders.

ACTION: Notice of meeting and solicitation for written and oral comments.

SUMMARY: The U.S. Department of Health and Human Services (HHS) announces the tenth public meeting of the President's Advisory Commission on Asian Americans, Native Hawaiians, and Pacific Islanders (Commission) and the solicitation of written and oral comment regarding the advancement of equity, justice, and opportunity for Asian American, Native Hawaiian, and Pacific Islander (AA and NHPI) communities. The meeting is open to the public and will be held in Washington, District of Columbia. Virtual attendance will be available through livestream on September 23, 2024. The Commission will also host an in-person, public listening session on September 26, 2024, at the U.S. Department of Transportation Headquarters Building in Washington, District of Columbia. The Commission is working to accomplish its mission to provide independent advice and recommendations to the President on ways to advance equity, justice, and opportunity for AA and NHPI communities.

DATES: The Commission will meet on September 23, 2024, from 9:15 a.m. Eastern Time (ET) to 4 p.m. ET. The final location and agenda will be posted on the website for the President's Advisory Commission on Asian Americans, Native Hawaiians, and Pacific Islanders: https://www.hhs.gov/about/whiaanhpi/commission/index.html when this information becomes available. On September 26, 2024, the Commission will also host an in-person listening session from 11:20 a.m. Eastern Time (ET) to 12:10 p.m. ET during the White House Initiative on Asian Americans, Native Hawaiians, and Pacific Islanders (WHIAANHPI) Policy Summit in Washington, District of Columbia.

ADDRESSES: Members of the public may attend the meeting on September 23, 2024, virtually. Members of the public may attend the listening session on September 26, 2024, in-person.

Registration is required through the following links:

September 23 meeting (virtual attendance only): https://www.eventbrite.com/e/meeting-of-the-presidents-advisory-commission-on-aa-and-nhpis-tickets-942107116747

September 26 listening session (in-person attendance only): https://www.eventbrite.com/e/white-house-aa-nhpi-policy-summit-tickets-942113816787

FOR FURTHER INFORMATION CONTACT: Judith Teruya, Lead Designated Federal Officer, President's Advisory Commission on Asian Americans, Native Hawaiians, and Pacific Islanders, U.S. Department of Health and Human Services, Office of the Secretary, Office of Intergovernmental and External Affairs, U.S. Department of Health and Human Services, Hubert Humphrey Building, 620E, 200 Independence Ave. SW, Washington, DC 20201; email: AANHPICommission@hhs.gov; telephone: (240) 856-3034.

SUPPLEMENTARY INFORMATION:

Background: The meeting is the tenth in a series of Federal advisory committee meetings regarding the development of recommendations to advance equity, justice, and opportunity for AA and NHPI communities. The meeting is open to the public and will be live streamed. The Commission, co-chaired by U.S. Health and Human Services Secretary Xavier Becerra and the U.S. Trade Representative Ambassador Katherine Tai, advises the President on: the development, monitoring, and coordination of executive branch efforts to advance equity, justice, and opportunity for AA and NHPI communities in the United States, including efforts to close gaps in health, socioeconomic, employment, and educational outcomes; policies to address and end anti-Asian bias, xenophobia, racism, and nativism, and opportunities for the executive branch to advance inclusion, belonging, and public awareness of the diversity and accomplishments of AA and NHPI people, cultures, and histories; policies, programs, and initiatives to prevent, report, respond to, and track anti-Asian hate crimes and hate incidents; ways in which the Federal Government can build on the capacity and contributions of AA and NHPI communities through equitable Federal funding, grantmaking, and employment opportunities; policies and practices to improve research and equitable data disaggregation regarding AA and NHPI communities; policies and practices to improve language access services to ensure AA and NHPI communities can access Federal programs and services; and strategies to increase public-and private-sector collaboration, and community involvement in improving the safety and socioeconomic, health, educational, occupational, and environmental well-being of AA and NHPI communities.

Information is available on the President's Advisory Commission on Asian Americans, Native Hawaiians, and Pacific Islanders website at https://www.hhs.gov/about/whiaanhpi/commission/index.html. The names of the members of the President's Advisory Commission on Asian Americans, Native Hawaiians, and Pacific Islanders are available at https://www.hhs.gov/about/whiaanhpi/commission/commissioners/index.html.

Purpose of Meeting: The President's Advisory Commission on Asian Americans, Native Hawaiians, and Pacific Islanders, authorized by Executive Order 14031, as amended by Executive Order 14109, will meet to discuss recommendations by the Commission's six subcommittees on ways to advance equity, justice, and opportunity for Asian American, Native Hawaiian, and Pacific Islander communities. The subcommittees are: Belonging, Inclusion, Anti-Asian Hate, Anti-Discrimination; Data Disaggregation and Education; Economic Equity; Health Equity; Immigration and Citizenship Status; and Language Access and Communications.

Public Participation at Meeting: Members of the public may attend the meeting virtually. On September 26, the Commissioners will hold an in person public listening session. Registration is required through the following links:

September 23 (virtual attendance only): https://www.eventbrite.com/e/meeting-of-the-presidents-advisory-commission-on-aa-and-nhpis-tickets-942107116747

September 26 (in-person attendance only): https://www.eventbrite.com/e/white-house-aa-nhpi-policy-summit-tickets-942113816787

Written public comments: Written comments are welcomed throughout the development of the Commission's recommendations to promote equity, justice, and opportunity for Asian Americans, Native Hawaiians, and Pacific Islanders and may be emailed to AANHPICommission@hhs.gov at any time. Respond concisely and in plain language. You may use any structure or layout that presents your information well. You may respond to some or all of the questions, and you can suggest other factors or relevant questions. You may also include links to online material or interactive presentations. Clearly mark any proprietary information and place it in its own section or file. Your response will become government property, and non-proprietary content may be published as public record.

Oral public comments: Individuals may submit a request to make an oral public comment at the September 26, 2024, in-person listening session in response to the questions below. Advance copy of oral public comment must be sent via email to AANHPICommission@hhs.gov with the subject line “PACAANHPI: In-person Response to [insert the issue and question]” no later than 11:59 p.m. ET on Wednesday, September 18, 2024. Submissions received after the deadline will be considered for oral public comment as availability allows. Your submitted oral comment will become government property and may be published as part of the meeting record.

Registration for oral public comment is on a first-come, first-served basis. Comments are limited to two (2) minutes or less per person. After the maximum number of speakers is exceeded, individuals registered to provide oral comment will be placed on a wait list and notified should an opening become available. You will be notified via email no later than September 19, 2024, if you have been identified to provide in-person public comment.

The Commission is interested in soliciting comments on the following questions:

1. Is information on how to report hate crimes to local law enforcement or the appropriate Federal authorities easily accessible to members of your community?

2. In what ways could local law enforcement or relevant Federal authorities make hate crimes reporting more accessible for vulnerable communities, such as utilizing online reporting portals, telephone reporting, or allowing third parties to submit incident reports on behalf of victims?

3. In what ways could hate crimes reporting mechanisms be improved or expanded to ensure victims of hate crimes are reporting incidents back to law enforcement?

4. When you report a hate crime or hate incident to law enforcement or a Federal agency, what outcome or response do you expect to receive from the respective agency?

Authority: Executive Order 14031 as amended by Executive Order 14109. The President's Advisory Commission on Asian Americans, Native Hawaiians, and Pacific Islanders is governed by provisions of the Federal Advisory Committee Act, Public Law 92-463, as amended (5 U.S.C. App.), which sets forth standards for the formation and use of Federal advisory committees.

Krystal Ka`ai,
Executive Director, White House Initiative on Asian Americans, Native Hawaiians, and Pacific Islanders, President's Advisory Commission on Asian Americans, Native Hawaiians, and Pacific Islanders.

[FR Doc. 2024-20047 Filed 9-6-24; 8:45 am]

BILLING CODE 4150-28-P